NATIONAL FOUNDATION FOR THE ARTS AND THE HUMANITIES

National Endowment for the Arts; National Council on the Arts 155th Meeting

Pursuant to section 10(a)(2) of the Federal Advisory Committee Act (Public Law 92-463), as amended, notice is hereby given that a meeting of the National Council on the Arts will be held on July 13-14, 2005 in Rooms 527 and M-09 at the Nancy Hanks Center, 1100 Pennsylvania Avenue, NW., Washington, DC 20506.

The Council will meet in closed session on July 13th, from 2 p.m. to 6 p.m. in Room 527 for discussion of National Medal of Arts nominations. In accordance with the determination of the Chairman of March 10, 2005, this session will be closed to the public pursuant to subsection (c)(6) of section 552b of Title 5, United States Code.

The remainder of meeting, from 9 a.m. to 12 p.m. (ending time is approximate) on July 14th, will be held in Room M-09 at the Nancy Hanks Center and will be open to the public on a space available basis. The meeting will open with remarks by Chairman Gioia, including a profile of NEA Jazz Master Dave Brubeck and a tribute to the late NEA Literature Director, Cliff Becker. This will be followed by a presentation on the National Poetry Recitation Contest, with a poetry recitation by DC Regional winner Stephanie Opaurago and remarks by Poetry Foundation Director John Barr. A presentation on American Masterpieces will feature an introduction and summary by Chairman Gioia and Director Bob Frankel and speakers from Eastman House and the Phillips Collection. A discussion on Presenting (formerly Multidisciplinary) will include an introduction and summary by Chairman Gioia and Director Mario Garcia Durham as well as guest speakers from the Association of Performing Arts Presenters (APAP) and Walton Arts Center. This will be followed by review and voting on applications and guidelines. The meeting will conclude with general discussion.

If, in the course of the open session discussion, it becomes necessary for the Council to discuss non-public commercial or financial information of intrinsic value, the Council will go into closed session pursuant to subsection (c)(4) of the Government in the Sunshine Act, 5 U.S.C. 552b. Additionally, discussion concerning purely personal information about individuals, submitted with grant applications, such as personal biographical and salary data or medical information, may be conducted by the Council in closed session in accordance with subsection (c)(6) of 5 U.S.C. 552b.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: June 16, 2005.
Kathy Plowitz-Worden,
Panel Coordinator, Office of Guidelines and Panel Operations.

[FR Doc. 05-12250 Filed 6-21-05; 8:45 am]

BILLING CODE 7537-01-P